DEPARTMENT OF HEALTH AND HUMAN SERVICES

Centers for Disease Control and Prevention

Board of Scientific Counselors, Office of Public Health Preparedness and Response, Board of Scientific Counselors (BSC OPHPR)

Correction: This notice was published in the Federal Register on March 11, 2014, Volume 79, Number 47, page 13655. The meeting date previously published should read: 10:00 a.m.-5:15 p.m., EST, April 7, 2014 and 8:00 a.m.-3:15 p.m., EST, April 8, 2014.

Contact Person For More Information: Marquita Black, Executive Assistant, Office of Science and Public Health Practice, Centers for Disease Control and Prevention, 1600 Clifton Road NE., Mailstop D-44, Atlanta, Georgia 30333, Telephone: (404) 639-7325; Facsimile: (404) 639-7977; Email: OPHPR.BSC.Questions@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-06449 Filed 3-24-14; 8:45 am]

BILLING CODE 4163-18-P